COMMISSION ON CIVIL RIGHTS

Notice of Public Meetings of the Puerto Rico Advisory Committee to the U.S. Commission on Civil Rights

AGENCY: Commission on Civil Rights.

ACTION: Announcement of three virtual panel briefings.

SUMMARY: Notice is hereby given, pursuant to the provisions of the rules and regulations of the U.S. Commission on Civil Rights (Commission), and the Federal Advisory Committee Act (FACA), that three panel briefings of the Puerto Rico Advisory Committee to the Commission will convene virtually by web conference to hear from experts on the civil rights impacts of the Insular Cases and the Non-Incorporation Doctrine on the Residents of Puerto Rico.

DATES:

Panel 1 The Right to Vote at the Federal Level—Perspectives from Community Advocates: Tuesday, May 21, 2024; 3:30 p.m. Atlantic Time/Eastern Time

Panel 2 The Right to Vote at the Federal Level—Public Policy, Government, and Political Party Perspectives: Thursday, May 30, 2024; 3:30 p.m. Atlantic Time/Eastern Time

Panel 3 The Right to Vote at the Federal Level—Perspectives from Academics & Researchers: Tuesday, June 4, 2024; 3:30 p.m. Atlantic Time/Eastern Time

ADDRESSES: Panel briefings will be held via Zoom.

Panel 1 May 21 Registration Link (Audio/Visual): http://tinyurl.com/5xdz9nx2; password, if needed: USCCR-PR

Panel 1 Phone (Audio Only): 1-833 435 1820 USA Toll Free; Meeting ID: 160 217 7958 #

Panel 2 May 30 Registration Link (Audio/Visual): https://tinyurl.com/423baeu4; password, if needed: USCCR-PR

Panel 2 Phone (Audio Only): 1-833 435 1820 USA Toll Free; Meeting ID: 160 461 9474 #

Panel 3 June 4 Registration Link (Audio/Visual): https://tinyurl.com/5ap7am93; password, if needed: USCCR-PR

Panel 3 Phone (Audio Only): 1-833 435 1820 USA Toll Free; Meeting ID: 160 962 4965 #

FOR FURTHER INFORMATION CONTACT: Email Victoria Moreno, Designated Federal Officer at vmoreno@usccr.gov, or by phone at 434-515-0204.

SUPPLEMENTARY INFORMATION: The virtual briefings will take place in Spanish with English interpretation. These committee meetings are available to the public through the registration links above. Any interested member of the public may listen to the meetings. An open comment period will be provided to allow members of the public to make a statement as time allows. Per the Federal Advisory Committee Act, public minutes of the meetings will include a list of persons who are present at the meetings. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email ebohor@usccr.gov at least 10 business days prior to each meeting date.

Members of the public are entitled to submit written comments; the comments must be received in the regional office within 30 days following the meetings. Written comments may be emailed to Victoria Moreno at vmoreno@usccr.gov. Persons who desire additional information may contact the Regional Programs Coordination Unit at 1-312-353-8311.

Records generated from these meetings may be inspected and reproduced at the Regional Programs Coordination Unit Office, as they become available, both before and after the meetings. Records of the meetings will be available via www.facadatabase.gov under the Commission on Civil Rights, Puerto Rico Advisory Committee link. Persons interested in the work of this Committee are directed to the Commission's website, http://www.usccr.gov, or may contact the Regional Programs Coordination Unit at ebohor@usccr.gov.

Agenda

1. Welcome, Roll Call, & Chair Opening Remarks

2. Panel 1 | May 21: followed by Committee Q&A

3. Panel 2 | May 30: followed by Committee Q&A

4. Panel 3 | June 4: followed by Committee Q&A

5. Public Comment

6. Adjourn

Dated: April 30, 2024.
David Mussatt,
Supervisory Chief, Regional Programs Unit.

[FR Doc. 2024-09743 Filed 5-3-24; 8:45 am]

BILLING CODE P